DEPARTMENT OF TRANSPORTATION

Federal Aviation Administration

14 CFR Part 39

[Docket No. FAA-2023-1643; Project Identifier MCAI-2022-01649-A]

RIN 2120-AA64

Airworthiness Directives; British Aerospace (Operations) Limited and British Aerospace Regional Aircraft Airplanes

AGENCY: Federal Aviation Administration (FAA), DOT.

ACTION: Notice of proposed rulemaking (NPRM).

SUMMARY: The FAA proposes to supersede Airworthiness Directive (AD) 2017-19-22, which applies to British Aerospace Regional Aircraft Jetstream Series 3101 and Jetstream Model 3201 airplanes. AD 2017-19-22 requires incorporating BAE Systems' Corrosion Prevention and Control program into the Airworthiness Limitations Section (ALS) of the existing instructions for continued airworthiness (ICA) for your airplane, which adds new and more restrictive inspections for corrosion that include inspecting the door hinges/supporting structure and attachment bolts for the main spar joint and engine support, and the rudder hinge location on the vertical stabilizer, and applicable corrective actions. Since the FAA issued AD 2017-19-22, the Civil Aviation Authority (CAA) of the United Kingdom superseded the mandatory continuing airworthiness information (MCAI) issued by the European Aviation Safety Agency (EASA) to correct an unsafe condition on these products. This proposed AD would require revising the ALS of the existing ICA for your airplane. The FAA is proposing this AD to address the unsafe condition on these products.

DATES: The FAA must receive comments on this NPRM by September 11, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1643; or in person at Docket Operations between 9 a.m. and 5 p.m., Monday through Friday, except Federal holidays. The AD docket contains this NPRM, the MCAI, any comments received, and other information. The street address for Docket Operations is listed above.

Material Incorporated by Reference:

• For service information identified in this NPRM, contact BAE Systems (Operations) Ltd., Customer Information Department, Prestwick International Airport, Ayrshire, KA9 2RW, Scotland, United Kingdom; phone: +44 3300 488727; fax: +44 1292 675704; email: RApublications@baesystems.com; website: baesystems.com/businesses/regionalaircraft/.

• You may view this service information at the FAA, Airworthiness Products Section, Operational Safety Branch, 901 Locust, Kansas City, MO 64106. For information on the availability of this material at the FAA, call (817) 222-5110. It is also available at regulations.gov under Docket No. FAA-2023-1643.

FOR FURTHER INFORMATION CONTACT: Doug Rudolph, Aviation Safety Engineer, FAA, 1600 Stewart Avenue, Westbury, NY 11590; phone: (816) 329-4059; email: doug.rudolph@faa.gov.

SUPPLEMENTARY INFORMATION:

Comments Invited

The FAA invites you to send any written relevant data, views, or arguments about this proposal. Send your comments to an address listed under ADDRESSES. Include “Docket No. FAA-2023-1643; Project Identifier MCAI-2022-01649-A” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aviation Safety Engineer, FAA, 1600 Stewart Avenue, Westbury, NY 11590. Any commentary that the FAA receives which is not specifically designated as CBI will be placed in the public docket for this rulemaking.

Background

The FAA issued AD 2017-19-22, Amendment 39-19052 (82 FR 44502, September 25, 2017) (AD 2017-19-22), for all British Aerospace Regional Aircraft Jetstream Series 3101 and Jetstream Model 3201 airplanes. AD 2017-19-22 was prompted by MCAI originated by EASA, which is the Technical Agent for the Member States of the European Union. EASA issued EASA AD 2017-0073, dated April 27, 2017 (EASA AD 2017-0073) to correct an unsafe condition identified as findings of extensive corrosion in areas covered by an existing zonal inspection. EASA AD 2017-0073 described the unsafe condition as both the need for newly added inspections for corrosion, which includes inspecting the door hinges/supporting structure and attachment bolts for the main spar joint and engine support, and inadequate existing instructions for inspection for corrosion of several areas including the rudder hinge location on the vertical stabilizer.

AD 2017-19-22 requires incorporating new revisions to the ALS of the existing ICA for your airplane to incorporate new and more restrictive inspections for corrosion, which include inspecting the door hinges/supporting structure and attachment bolts of the main spar joint and engine support, and the hinge location on the vertical stabilizer, and repair or replacement, as applicable. The FAA issued AD 2017-19-22 to address corrosion on the rudder upper hinge bracket and internal wing, areas of the passenger/crew door hinges and supporting structure, the main spar joint, and the engine support attachment bolts, which could lead to reduced structural integrity with consequent loss of control.

Actions Since AD 2017-19-22 Was Issued

Since the FAA issued AD 2017-19-22, the CAA of the United Kingdom superseded EASA AD 2017-0073 and issued CAA AD G-2022-0021, dated December 21, 2022 (CAA AD G-2022-0021) (referred to after this as “the MCAI”) for all BAE Systems (Operations) Limited Jetstream Series 3100 and 3200 airplanes. The MCAI states that reports were received of corrosion on the rudder tab hinges, fuselage skin beneath the marker beacon antenna external doubler, and fuselage skin beneath the static vent external doubler, resulting in the need for new and more restrictive inspection requirements. The MCAI requires accomplishing the actions specified in BAE Systems Jetstream Series 3100 & 3200 Corrosion Prevention and Control Programme, Manual Ref: JS/CPCP/01, Revision 9, dated April 15, 2022 (BAE Systems CPCP Manual JS/CPCP/01, Revision 9) within the associated threshold and intervals specified in BAE Systems CPCP Manual JS/CPCP/01, Revision 9. Consequently, this proposed AD would require revising the ALS of the existing ICA for your approved maintenance or inspection program, as applicable, by including new actions, which include inspecting the rudder tab hinges, fuselage skin beneath the marker beacon antenna external doubler, and fuselage skin beneath the static vent external doubler for corrosion, and depending on the inspection results, performing applicable corrective actions.

The FAA is proposing this AD to address corrosion on the rudder tab hinges, fuselage skin beneath the marker beacon antenna external doubler, and fuselage skin beneath the static vent external doubler. The unsafe condition, if not addressed, could lead to reduced structural integrity of the affected parts with consequent loss of control of the airplane.

You may examine the MCAI in the AD docket at regulations.gov under Docket No. FAA-2023-1643.

Related Service Information Under 1 CFR Part 51

The FAA reviewed BAE Systems CPCP Manual JS/CPCP/01, Revision 9. This service information specifies procedures for a comprehensive corrosion prevention and control program.

This service information is reasonably available because the interested parties have access to it through their normal course of business or by the means identified in ADDRESSES.

FAA's Determination

These products have been approved by the aviation authority of another country and are approved for operation in the United States. Pursuant to the FAA's bilateral agreement with this State of Design Authority, it has notified the FAA of the unsafe condition described in the MCAI described above. The FAA is issuing this NPRM after determining that the unsafe condition described previously is likely to exist or develop on other products of the same type design.

Proposed AD Requirements in This NPRM

This proposed AD would retain none of the requirements of AD 2017-19-22. This proposed AD would require revising the ALS of the existing ICA for your approved maintenance or inspection program. The revision to the ALS of the existing ICA specified in this proposed AD may be performed by the owner/operator (pilot) holding at least a private pilot certificate and must be entered into the aircraft records showing compliance with this AD in accordance with 14 CFR 43.9(a) and 14 CFR 91.417(a)(2)(v). The record must be maintained as required by 14 CFR 91.417, 121.380, or 135.439.

Differences Between This Proposed AD and the MCAI

The MCAI applies to Model Jetstream Series 3100 and Jetstream Series 3200 airplanes, which are identified on the FAA type certificates as Jetstream Model 3101 and Jetstream Model 3201 airplanes, respectively.

The MCAI specifies contacting BAE for approved corrective actions instructions and this proposed AD would require, for certain corrective actions, contacting the Manager, International Validation Branch, FAA; CAA of the United Kingdom; British Aerospace (Operations) Limited's Design Organization Approval (DOA) (for Jetstream Series 3101); or British Aerospace Regional Aircraft's DOA (for Jetstream Model 3201) for approved corrective action instructions and accomplishing those instructions accordingly. If approved by the DOA, the approval must include the DOA-authorized signature.

The MCAI requires revising the existing aircraft maintenance program (AMP) to introduce the actions specified in BAE Systems CPCP Manual JS/CPCP/01, Revision 9. After the AMP is revised, the MCAI does not require recording AD compliance on a continued basis each time an action in the revised AMP is performed. The AMP is not required for U.S. operators for the affected airplanes; however, this proposed AD would require incorporating BAE Systems CPCP Manual JS/CPCP/01, Revision 9, into the ALS of the existing ICA for your airplane, which has the same intended result as revising the AMP of not needing to record compliance with the proposed AD each time an individual action is accomplished.

The MCAI requires doing all actions in BAE Systems CPCP Manual JS/CPCP/01, Revision 9, from the effective date of CAA AD G-2022-0021 and this proposed AD would require doing all actions in BAE Systems CPCP Manual JS/CPCP/01, Revision 9, at the compliance times specified in that manual or within 12 months after the effective date of the proposed AD, whichever occurs later, except for the actions identified in paragraph (g)(3) of this proposed AD.

BAE Systems CPCP Manual JS/CPCP/01, Revision 9 specifies reporting of Level 2 and Level 3 corrosion, and this proposed AD would not.

Costs of Compliance

The FAA estimates that this AD, if adopted as proposed, would affect 42 airplanes of U.S. registry.

The FAA estimates the following costs to comply with this proposed AD:

Estimated Costs
Action | Labor cost | Parts cost | Cost per product | Cost on U.S. operators
Revise the ICA | 1 work-hour × $85 per hour = $85 | $0 | $85 | $3,570

The scope of damage found while performing in the actions specified in BAE Systems CPCP Manual JS/CPCP/01, Revision 9, could vary significantly from airplane to airplane. The FAA has no data to determine the costs to repair or replace damaged parts on each airplane or the number of airplanes that may require repair.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2017-19-22, Amendment 39-19052 (82 FR 44502, September 25, 2017); and

b. Adding the following new airworthiness directive:

British Aerospace (Operations) Limited and British Aerospace Regional Aircraft: Docket No. FAA-2023-1643; Project Identifier MCAI-2022-01649-A.

(a) Comments Due Date

The FAA must receive comments on this airworthiness directive (AD) by September 11, 2023.

(b) Affected ADs

This AD replaces AD 2017-19-22, Amendment 39-19052 (82 FR 44502, September 25, 2017).

(c) Applicability

This AD applies to British Aerospace (Operations) Limited Model Jetstream Model 3101 airplanes and British Aerospace Regional Aircraft Model Jetstream Model 3201 airplanes, all serial numbers, certificated in any category.

(d) Subject

Joint Aircraft System Component (JASC) Code 2721, Rudder Tab Control System; 5330, Fuselage Main, Plate/Skin.

(e) Unsafe Condition

This AD was prompted by reports of corrosion on the rudder tab hinges, fuselage skin beneath the marker beacon antenna external doubler, and fuselage skin beneath the static vent external doubler. The FAA is issuing this AD to detect and correct corrosion on the rudder tab hinges, fuselage skin beneath the marker beacon antenna external doubler, and fuselage skin beneath the static vent external doubler. The unsafe condition, if not addressed, could lead to reduced structural integrity of the affected parts with consequent loss of control of the airplane.

(f) Compliance

Comply with this AD within the compliance times specified, unless already done.

(g) Required Actions

(1) Before further flight after the effective date of this AD, revise the Airworthiness Limitations Section of the existing instructions for continued airworthiness for your approved maintenance or inspection program, as applicable, by incorporating the actions and associated thresholds and intervals, including life limits, specified in BAE Systems Jetstream Series 3100 & 3200 Corrosion Prevention and Control Programme, Manual Ref: JS/CPCP/01, Revision 9, dated April 15, 2022 (BAE Systems CPCP Manual JS/CPCP/01, Revision 9).

(2) The actions required by paragraph (g)(1) of this AD may be performed by the owner/operator (pilot) holding at least a private pilot certificate and must be entered into the aircraft records showing compliance with this AD in accordance with 14 CFR 43.9(a) and 14 CFR 91.417(a)(2)(v). The record must be maintained as required by 14 CFR 91.417, 121.380, or 135.439.

(3) Do all the actions in BAE Systems CPCP Manual JS/CPCP/01, Revision 9, as follows:

(i) For all tasks other than 130/EX/01 C3, 140/EX/01 C2, 150/EX/01 C2, 150/EX/01 C3, 150/EX/01 C4, and 200/EX/01 C3: At the compliance times specified in BAE Systems CPCP Manual JS/CPCP/01, Revision 9, or within 12 months after the effective date of this AD, whichever occurs later.

(ii) For tasks 130/EX/01 C3, 140/EX/01 C2, 150/EX/01 C2, 150/EX/01 C3, 150/EX/01 C4, and 200/EX/01 C3: Within 12 months after the effective date of this AD.

(4) If any discrepancy, as identified in BAE Systems CPCP Manual JS/CPCP/01, Revision 9, is found during any inspection or task required by paragraph (g)(3) of this AD, repair or replace, as applicable, all damaged structural parts and components and do the maintenance procedures for corrective action in accordance with and at the compliance time specified in BAE Systems CPCP Manual JS/CPCP/01, Revision 9, except reporting Level 2 and Level 3 corrosion and reporting cracks or other structural defects are not required. If no compliance time is defined, do the applicable corrective action before further flight.

(5) If during any inspection or task required by paragraph (g)(3) of this AD, any discrepancy is found that is not identified in paragraph (g)(4) of this AD or is beyond the repairable limits specified in paragraph (g)(4) of this AD, before further flight, contact either the Manager, International Validation Branch, FAA; CAA of the United Kingdom; British Aerospace (Operations) Limited's Design Organization Approval (DOA) (for Jetstream Series 3101); or British Aerospace Regional Aircraft's DOA (for Jetstream Model 3201) for approved corrective action instructions and accomplish those instructions accordingly. If approved by the DOA, the approval must include the DOA-authorized signature.

(h) Provisions for Alternative Actions and Intervals

After the action required by paragraph (g)(1) of this AD has been done, no alternative actions and associated thresholds and intervals, including life limits, are allowed unless they are approved as specified in paragraph (i) of this AD.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (j)(2) of this AD or email to: 9-AVS-AIR-730-AMOC@faa.gov. If mailing information, also submit information by email. Before using any approved AMOC, notify your appropriate principal inspector, or lacking a principal inspector, the manager of the local flight standards district office/certificate holding district office.

(j) Additional Information

(1) Refer to Civil Aviation Authority (CAA) AD G-2022-0021, dated December 21, 2022, for related information. This CAA AD may be found in the AD docket at regulations under Docket No. FAA-2023-1643.

(2) For more information about this AD, contact Doug Rudolph, Aviation Safety Engineer, FAA, 1600 Stewart Avenue, Westbury, NY 11590; phone: (816) 329-4059; email: doug.rudolph@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) BAE Systems Jetstream Series 3100 & 3200 Corrosion Prevention and Control Programme, Manual Ref: JS/CPCP/01, Revision 9, dated April 15, 2022.

(ii) [Reserved]

(3) For service information identified in this AD, contact BAE Systems (Operations) Ltd., Customer Information Department, Prestwick International Airport, Ayrshire, KA9 2RW, Scotland, United Kingdom; phone: +44 3300 488727; fax: +44 1292 675704; email: RApublications@baesystems.com; website: baesystems.com/businesses/regionalaircraft/.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on July 21, 2023.
Victor Wicklund,
Deputy Director, Compliance & Airworthiness Division, Aircraft Certification Service.

[FR Doc. 2023-15917 Filed 7-26-23; 8:45 am]

BILLING CODE 4910-13-P